DEPARTMENT OF TRANSPORTATION

Federal Aviation Administration

Notice of Intent To Rule on Request To Release Airport Property at DeQuincy Industrial Airport, DeQuincy, LA

AGENCY: Federal Aviation Administration (FAA), DOT.

ACTION: Notice of request to release airport property.

SUMMARY: The FAA proposes to rule and invites public comment on the release of land at DeQuincy Industrial Airport under the provisions of Section 125 of the Wendell H. Ford Aviation Investment Reform Act for the 21st Century (AIR 21)

DATES: Comments must be received on or before March 11, 2002.

ADDRESSES: Comments on this application may be mailed or delivered to the FAA at the following address: Mr. Lacey D. Spriggs, Federal Aviation Administration, Southwest Region, Airports Division, Manager, LA/NM Airports Development Office, ASW-640, Fort Worth, Texas 76193-0640.

In addition, one copy of any comments submitted to the FAA must be mailed or delivered to Mr. Ray Hyatt, Airport Manager at the following address: P.O. Box 968, DeQuincy, LA 70633.

FOR FURTHER INFORMATION CONTACT: Mr. Michael J. Saupp, Program Manager, Federal Aviation Administration, LA/NM ADO, ASW-640, 2601 Meacham Blvd. Fort Worth, Texas 76193-0640.

The request to release property may be reviewed in person at this same location.

SUPPLEMENTARY INFORMATION: The FAA invites public comment on the request to release property at the DeQuincy Industrial Airport under the provisions of the AIR 21.

On January 22, 2002, property at DeQuincy Industrial Airpark submitted by the City met the procedural requirements of the Federal Aviation Order 5190.6A, Compliance Handbook an may approve the request, in whole or in part, no later than August 15, 2000.

The following is a brief overview of the request: The city of DeQuincy requests the release of 2.0432 acres of airport property. The release of property will allow for use of a larger tract of land being sold in an industrial tract adjoining the Airpark to proceed. The sale is estimated to provide $4,000 for airport improvements by the city of DeQuincy.

Any person may inspect the request in person at he FAA office listed above under FOR FURTHER INFORMATION CONTACT

In addition, any person may, upon request, inspect the application, notice and other documents germane to the application in person at the Office of the Mayor, DeQuincy, Louisiana.

Dated: Issued in Fort Worth, Texas, on January 24, 2002.
Naomi L. Saunders,
Manager, Airports Division.

[FR Doc. 02-3128 Filed 2-7-02; 8:45 am]

BILLING CODE 4910-13-M